DEPARTMENT OF THE INTERIOR

Bureau of Land Management

[L63340000.DV0000 LLOR9360000: OROR-68370]

Notice of Proposed Withdrawal and Notification of Public Meetings; Oregon

AGENCY: Bureau of Land Management, Interior.

ACTION: Notice.

SUMMARY: On behalf of the Bureau of Land Management (BLM) and the United States Forest Service (USFS), the Assistant Secretary for Land and Minerals Management proposes to withdraw, subject to valid existing rights, approximately 5,216.18 acres of BLM-managed public domain and Revested Oregon California Railroad lands (O&C) and 95,805.53 acres of National Forest System lands for 5 years to preserve the status quo while Congress considers legislation to permanently withdraw those areas. Such legislation is currently pending in the 114th Congress as S. 346 and H.R. 682 and identified as the “Southwestern Oregon Watershed and Salmon Protection Act of 2015.” Subject to valid existing rights, this notice segregates the lands described below for 2 years from settlement, sale, location, and entry under the public land laws, location and entry under the United States mining laws, and operation of the mineral and geothermal leasing laws. This notice gives the public an opportunity to comment on the application and also provides notification of future public meetings.

DATES: Comments must be made by September 28, 2015. A notice of public meetings will be announced at a later date as described in the SUPPLEMENTARY INFORMATION section of this notice.

ADDRESSES: Written comments should be sent to the Bureau of Land Management, Oregon State Office, P.O. Box 2965, Portland, Oregon 97208-2965.

FOR FURTHER INFORMATION CONTACT: Michael L. Barnes, Oregon State Office, Bureau of Land Management, at 503-808-6155 or by email m1barnes@blm.gov or Candice Polisky, USFS Pacific Northwest Region, at 503-808-2479. Persons who use a telecommunications device for the deaf (TDD) may call the Federal Information Relay Service (FIRS) at 1-800-877-8339 to reach either of the above individuals. The FIRS is available 24 hours a day, 7 days a week, to leave a message or question with the above individual. You will receive a reply during normal business hours.

SUPPLEMENTARY INFORMATION: The applicant is the Bureau of Land Management and its petition/application requests the Secretary to withdraw, subject to valid existing rights, the following described public domain, O&C, and National Forest System lands from settlement, sale, location, and entry under the public land laws, location and entry under the United States mining laws, and operation of the mineral and geothermal leasing laws for 5 years to preserve the status quo while Congress considers legislation to permanently withdraw those areas:

Public Domain Lands

Willamette Meridian

T. 36 S., R. 14 W.,

Sec. 24, E½SE¼;

Sec. 25, SE¼SE¼.

T. 37 S., R. 14 W.,

Sec. 1, lots 1 to 4, inclusive, S½N½, N½SW¼, SE¼SW¼, and SE¼;

Sec. 2, lots 1 and 2, S½NE¼, and E½SE¼;

Sec. 11, E½;

Sec. 12, E½, E½NW¼, NE¼SW¼, and S½SW¼;

Sec. 13, N½N½ and SE¼;

Sec. 14, NE¼NE¼ and SE¼NW¼;

Sec. 23, SE¼NE¼;

Sec. 24, NE¼NE¼, S½NE¼, NW¼NW¼, S½NW¼, and S½.

T. 40 S., R. 8 W.,

Sec. 18, SW¼NE¼NE¼, W½NE¼, SE¼NE¼, W½, and W½SE¼;

Sec. 19, NW¼NE¼;

Sec. 20, NW¼NW¼.

T. 41 S., R. 9 W.,

Sec. 3, lots 2, 3, and 4, and S½NW¼;

Sec. 9.

Revested Oregon California Railroad Grant Lands (O&C)

Willamette Meridian

T. 39 S., R. 8 W.,

Sec. 31, un-numbered lots in the W½NW¼ and W½SW¼, E½NW¼, and NE¼SW¼.

T. 40 S., R. 8 W.,

Sec. 7, lots 1 and 2, E½SW¼, SW¼SW¼, and SW¼SE¼;

Sec. 17, W½NE¼, SE¼NE¼, W½, and NW¼SE¼.

The areas described aggregate approximately 5,216.18 acres, more or less, in Curry and Josephine Counties.

Siskiyou National Forest

Willamette Meridian

T. 36 S., R. 13 W.,

Sec. 19, lots 2 to 6, 12, 13, 15, and 16, inclusive;

Sec. 20, SW¼NE¼, NW¼, and SW¼SE¼;

Sec. 21, E½ and SE¼SW¼;

Sec. 29, NW¼;

Sec. 30 and 31;

Protraction Blocks 43 to 46, inclusive.

T. 37 S., R. 13 W.,

Secs. 8, 9, 10, 16, 17, 20, 21, 28, and 29;

Protraction Blocks 39 thru 51, inclusive.

T. 38 S., R. 13 W.,

Sec. 5, SW¼;

Sec. 6, lots 1 to 7, inclusive, S½NE¼, SE¼NW¼, E½SW¼, and SE¼;

Sec. 7, lots 1, 2, 3, and 5, NE¼, E½NW¼, NE¼SW¼, NE¼SW¼SW¼, NE¼SE¼SW¼, and SE¼SE¼SW¼.

Sec. 8, N½.

T. 39 S., R. 9 W.,

Sec 19;

Sec. 20, SW¼NE¼, NW¼, SW¼, and W½SE¼;

Sec. 29 to 32, inclusive;

Sec. 35, NE¼NE¼, S½NE¼, SW¼, and SE¼.

T. 39 S., R. 10 W.,

Protraction Block 46.

T. 40 S., R. 9 W.,

Sec. 1, unnumbered lots in the N½NE¼ and N½NW¼, SW¼NE¼, S½NW¼, SW¼, and W½SE¼;

Sec. 2, lots 1 to 7, inclusive, SW¼NE¼, S½NW¼, SW¼, and W½SE¼;

Sec. 3, lots 1 and 2, S½NE¼, S½NW¼, and S½;

Sec. 4, S½NE¼, S½NW¼, and S½;

Sec. 5, lots 2, 3, and 4, S½NE¼, S½NW¼, and S½;

Secs. 6 to 11, inclusive;

Sec. 13, NE¼, S½NE¼NW¼, S½NW¼, and S½;

Sec. 14, NE¼, N½NW¼, N½SW¼NW¼, SE¼SW¼NW¼, SE¼NW¼, N½NE¼SW¼, SW¼NW¼SW¼, SW¼SW¼, N½SE¼, and SE¼SE¼;

Secs. 15 to 22, inclusive;

Sec. 23, W½NE¼NW¼, W½NW¼, NW¼SE¼NW¼, and W½SW¼;

Secs. 27 to 33, inclusive;

Sec. 34, lots 1 to 8, inclusive, N½NE¼, SW¼NE¼, and NW¼SE¼.

T. 40 S., R. 10 W.,

Sec. 2, lot 1, SW¼NE¼, SE¼SW¼, E½SE¼, and SW¼SE¼;

Sec. 3, SW¼SW¼;

Sec. 4, SE¼SE¼;

Sec. 8, SE¼;

Sec. 9, NE¼, S½NW¼, and S½;

Sec. 10;

Sec. 11, NE¼, E½NW¼, S½NW¼NW¼, S½NW¼, SW¼, and SE¼;

Secs. 14, 15, and 16;

Sec. 17, E½NE¼, SW¼NE¼, E½SW¼, SW¼SW¼, and SE¼;

Sec. 19, S½NE¼NE¼, S½NE¼, E½SW¼, and SE¼;

Secs. 20 to 23, and 26 to 30, inclusive;

Protraction Blocks 37 to 47, inclusive.

T. 40 S., R. 11 W.,

Sec. 4, lots 3 and 4, and SW¼NW¼;

Secs. 5 and 8;

Sec. 9, SW¼NW¼, W½SW¼, SE¼SW¼, and SW¼SE¼;

Sec. 16;

Sec. 17, E½NE¼, NE¼SE¼, SE¼SW¼, and S½SE¼;

Sec. 20, E½, E½NW¼, and SW¼;

Sec. 21;

Sec. 27, W½;

Sec. 28;

Sec. 29, NE¼, NE¼NW¼, N½SE¼, and SE¼SE¼;

Protraction Blocks 39, 40, 41, and 43.

T. 41 S., R. 9 W.,

Secs. 4 to 8, inclusive, and 17 and 18.

T. 41 S, R. 10 W.,

Secs. 1 to 18, inclusive.

T. 41 S., R. 11 W.,

Sec. 1;

Sec. 2, E½NE¼, SW¼NE¼, W½SW¼NW¼, W½NW¼SW¼, and SE¼;

Secs. 3 and 4;

Sec. 5, NE¼, E½SW¼, E½SW¼SW¼, and SE¼;

Sec. 8, E½, E½NW¼, E½NW¼NW¼, E½SW¼NW¼, E½NE¼SW¼, and E½SE¼SW¼;

Secs. 9 to 15, inclusive;

Sec. 17, lots 1 to 4, inclusive, NE¼, and N½S½;

Sec. 18, lots 9, 10, 11, NE¼SW¼, and N½SE¼.

The areas described aggregate 95,805.53 acres of National Forest System lands in Josephine and Curry Counties.

The following described non-Federal lands are within the exterior boundaries of the Southwestern Oregon Watershed and Salmon Protection Areas. If title to these non-Federal lands is subsequently acquired by the United States, the application requests that such lands become subject to the terms and conditions of the withdrawal.

Willamette Meridian

T. 37 S., R. 14 W.,

Sec. 1, SW¼SW¼;

Sec. 12, W½NW¼ and NW¼SW¼;

Sec. 13, S½N½;

Sec. 24, NW¼NE¼ and NE¼NW¼.

T. 39 S., R. 9 W.,

Sec. 36.

T. 41 S., R. 11 W.,

Sec. 16.

The areas described aggregate 1,680.00 acres in Josephine and Curry Counties.

The Assistant Secretary for Land and Minerals Management approved the BLM's petition/application. Therefore, the petition/application constitutes a withdrawal proposal of the Secretary of the Interior (43 CFR 2310.1-3(e)).

The use of a right-of-way, interagency, or cooperative agreement would not adequately constrain non-discretionary uses that may result in disturbance of the lands embraced within the Southwestern Oregon Watershed and Salmon Protection Areas.

There are no suitable alternative sites as the described lands contain the resource values to be protected.

No water rights will be needed to fulfill the purpose of the proposed withdrawal.

Records relating to the application may be examined by contacting the BLM at the above address and phone number.

For a period until September 28, 2015, all persons who wish to submit comments, suggestions, or objections in connection with the proposed withdrawal application may present their views in writing to the Oregon State Director, BLM, at the above address. Information regarding the withdrawal application will be available for public review at the BLM Oregon State Office during regular business hours, 8:45 a.m. to 4:30 p.m. Monday through Friday, except Federal holidays. Before including your address, phone number, email address, or other personal identifying information in your comment, you should be aware that your entire comment—including your personal identifying information—may be made publicly available at any time. Individuals who submit written comments may request confidentiality by asking us in your comment to withhold your personal identifying information from public review; however, we cannot guarantee that we will be able to do so.

Notice is hereby given that there will be several public meetings held in connection with the proposed withdrawal. A notice of the times and places of the public meetings will be announced at least 30 days in advance in the Federal Register and through local media, newspapers, and the BLM and the USFS Web sites.

For a period until June 29, 2017, subject to valid existing rights, the public and National Forest System lands described in this notice will be segregated from settlement, sale, location, and entry under the public land laws, location and entry under the United States mining laws, and operation of the mineral and geothermal leasing laws, unless the application is denied or canceled or the withdrawal is approved prior to that date.

Licenses, permits, cooperative agreements, or discretionary land use authorizations of a temporary nature that will not significantly impact the values to be protected by the withdrawal may be allowed with the approval of the authorized officer of the BLM or the USFS during the temporary segregation period.

The application will be processed in accordance with the regulations set forth in 43 CFR part 2300.

Fred O'Ferrall,
Chief, Branch of Land, Minerals, and Energy Resources.

[FR Doc. 2015-15954 Filed 6-26-15; 8:45 am]

BILLING CODE 3111-15-P